DEPARTMENT OF TRANSPORTATION

Federal Aviation Administration

14 CFR Part 71

[Docket No. FAA-2019-0638; Airspace Docket No. 19-ASO-7]

RIN 2120-AA66

Proposed Amendment and Removal of Air Traffic Service (ATS) Routes; Southeastern United States

AGENCY: Federal Aviation Administration (FAA), DOT.

ACTION: Notice of proposed rulemaking (NPRM).

SUMMARY: This action proposes to amend 25 jet routes, remove 7 jet routes, and remove 1 high altitude area navigation (RNAV) route in the southeastern United States. This action is in support of the Northeast Corridor Atlantic Route Project to improve the efficiency of the National Airspace System (NAS) and reduce dependency on ground-based navigational systems.

DATES: Comments must be received on or before October 28, 2019.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2019-0638; Airspace Docket No. 19-ASO-7 at the beginning of your comments. You may also submit comments through the internet at http://www.regulations.gov.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, email: fedreg.legal@nara.gov or go to https://www.archives.gov/federal-register/cfr/ibr-locations.html.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0638; Airspace Docket No. 19-ASO-7) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0638; Airspace Docket No. 19-ASO-7.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays.

An informal docket may also be examined during normal business hours at the office of the Eastern Service Center, Federal Aviation Administration, Room 210, 1701 Columbia Ave., College Park, GA 30337.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Background

The FAA issued a final rule for Docket No. FAA-2018-0437 in the Federal Register (83 FR 43750; August 28, 2018) (the Florida Metroplex project) that established and modified a number of high altitude area navigation (RNAV) routes in the southeastern United States. The rule became effective on November 8, 2018. That rule was part of the effort to improve the efficiency of the NAS by reducing the dependency on ground-based navigation systems and transitioning the NAS to a satellite-based, Performance Based Navigation (PBN) system.

The Proposal

The FAA is proposing an amendment to Title 14 Code of Federal Regulations (14 CFR) part 71 to amend 25 jet routes, remove 7 jet routes, and remove one high altitude RNAV route (Q-route) in the southeastern United States. This action would complement the Florida Metroplex project action by removing certain jet route segments that are being replaced by RNAV routing. Additionally, the proposed jet route changes would reduce aeronautical chart clutter by removing unneeded route segments.

In this NPRM, where new navigation aid radials are proposed in an amended jet route description, both “True” (T) and “Magnetic” (M) degrees will be stated. Existing radials in the descriptions are expressed only in True degrees. Some jet routes discussed in this preamble include points that are identified by the intersection of radials from two VOR or VORTAC navigation facilities. In some cases, those intersections are assigned a specific fix name that is depicted on aeronautical charts (e.g., TYDOE, GA). While these fix names are not stated in the regulatory descriptions of jet routes, they are noted in the preamble text below to assist readers in locating that point on aeronautical charts.

The proposed route changes are as follows:

J-4: J-4 currently extends between the Los Angeles, CA, VORTAC and the Wilmington, NC, VORTAC. This action proposes to remove the segments of the route between the Colliers, SC, VORTAC and the Wilmington VORTAC. As amended, the route would extend between Los Angeles, CA and Colliers, SC.

J-20: J-20 currently extends between the Seattle, WA, VORTAC and the Orlando, FL, VORTAC. This action proposes to remove the segments between the Seminole, FL, VORTAC and the Orlando VORTAC. The amended route would extend between Seattle, WA and Seminole, FL.

J-37: J-37 currently extends between the Hobby, TX, VOR/DME and the Massena, NY, VORTAC. This proposal would remove the route segments between Montgomery, AL, VORTAC and the Lynchburg, VA, VOR/DME leaving a gap in the route. As amended, J-37 would consist of three separate segments: Between Hobby, TX and Montgomery, AL; followed by a gap; and then between Lynchburg, VA and Massena, NY; followed by a gap; and then between Coyle, NJ and Kennedy, NY.

J-41: J-41 currently extends between the Key West, FL, VORTAC and the Omaha, NE, VORTAC. This action would remove the portion of the route between the Key West and the Seminole, FL, VORTAC. The amended route would extend between Seminole, FL and Omaha, NE.

J-43: J-43 currently extends between the Dolphin, FL, VORTAC and the Carleton, MI, VOR/DME. This action would remove the segments between Dolphin, FL, and the currently charted NEDDY, GA, Fix (defined by the intersection of the Cross City, FL VORTAC 322°(T)/324°(M) and the Seminole, FL, VORTAC 359°(T)/357°(M) radials). The amended route would extend between the intersection of the Cross City, FL, VORTAC 322°(T)/324°(M) and the Seminole, FL, VORTAC 359°(T)/357°(M) radials (the NEDDY Fix) and Carleton, MI.

J-45: J-45 currently extends between the Virginia Key, FL, VOR/DME and the Aberdeen, SD, VOR/DME. The action would remove the segments between the Virginia Key, FL, VOR/DME, and the Alma, GA, VORTAC. The amended route would extend between Alma, GA and Aberdeen, SD.

J-46: J-46 currently extends between the Tulsa, OK, VORTAC and the Alma, GA, VORTAC. This action would remove the segments between the Volunteer, TN, VORTAC and the Alma, GA, VORTAC. The amended route would extend between Tulsa, OK and Volunteer, TN.

J-47: J-47 currently extends between the Charleston, SC, VORTAC and the Spartanburg, SC, VORTAC. The FAA proposes to delete this entire route.

J-51: J-51 currently extends between the Craig, FL, VORTAC and the Yardley, NJ, VOR/DME. This action proposes to remove the segments between the Craig, FL, VORTAC, and the charted TUBAS, NC, Fix (defined by the intersection of the Columbia, SC, VORTAC 042°(T)/044°(M) and the Flat Rock, VA, VORTAC 212°(T)/218°(M) radials. As amended, the route would extend between the intersection of the Columbia, SC 042°(T)/044°(M) and the Flat Rock, VA 212°(T)/218°(M) radials (the TUBAS Fix), and the Yardley VOR/DME.

J-52: J-52 currently extends between Vancouver, BC, Canada, VOR/DME and the Richmond, VA, VOR/DME. The FAA proposes to remove the segments between the Columbia, SC, VORTAC and the charted TUBAS, NC, Fix (defined by the intersection of the Columbia VORTAC 042°(T)/044°(M) and the Flat Rock, VA, VORTAC 212°(T)/218°(M) radials). As amended J-52 would extend, in two parts, between Vancouver, BC, Canada, and Columbia, SC; followed by a gap in the route, and resuming between the intersection of the Columbia, SC 042°(T)/044°(M) and the Flat Rock, VA, 212°(T)/218°(M) radials (TUBAS Fix) and Richmond, VA.

J-53: J-53 currently extends between the Dolphin, FL, VORTAC and the Pulaski, VA, VORTAC. This action would remove the segments between Dolphin, FL, and the charted DUNKN, GA, Fix (defined by the intersection of the Craig, FL, VORTAC 347°(T)/350°(M) and the Colliers, SC, VORTAC 174°(T)/178°(M) radials). The amended route would extend between the DUNKN Fix and Pulaski, VA.

J-55: J-55 currently extends between the Dolphin, FL, VORTAC and the Presque Isle, ME, VOR/DME. This action would remove the segments between the Dolphin VORTAC, and the Charleston, SC, VORTAC. The amended route would extend between Charleston, SC and Presque Isle, ME.

J-73: J-73 currently extends between the Dolphin, FL, VORTAC and the Northbrook, IL, VOR/DME. This action would remove the segments between the Dolphin VORTAC, FL, and the WYATT, FL, Fix (defined by the intersection of the Seminole, FL, VORTAC 344°(T)/342°(M) and the Cross City, FL, VORTAC 322°(T)/324°(M) radials). The amended route would extend between the intersection of the Seminole VORTAC 344°(T)/342°(M) and the Cross City VORTAC 322°(T)/324°(M) radials (the WYATT Fix) and Northbrook, IL.

J-75: J-75 currently extends between the Dolphin, FL, VORTAC and the Boston, MA, VOR/DME. This action would remove the segments between the Dolphin VORTAC, and the Greensboro, NC, VORTAC. As amended, the route would extend between Greensboro, NC and Boston, MA.

J-79: J-79 currently extends between the Key West, FL, VORTAC, and the Bangor, ME, VORTAC. This action would remove the segments between the Key West VORTAC, and the Charleston, SC, VORTAC. The amended route would extend between Charleston, SC and Bangor, ME.

J-81: J-81 currently extends between the Dolphin, FL, VORTAC and the Colliers, SC, VORTAC. This action would remove the segments between the Dolphin VORTAC, and the charted DUNKN, GA, Fix (defined by the intersection of the Craig, FL, VORTAC 347°(T)/350°(M) and the Colliers VORTAC 174°(T)/178°(M) radials). The amended route would extend between the intersection of the Craig VORTAC 347°(T)/350°(M) and the Colliers VORTAC 174°(T)/178°(M) radials (DUNKN Fix) and the Colliers VORTAC.

J-85: J-85 currently extends between the Dolphin, FL, VORTAC and the Dryer, OH, VOR/DME. This action would remove the segments between the Dolphin VORTAC, and the Alma, GA, VORTAC. The amended route would extend between Alma, GA and Dryer, OH. In addition, the words “The portion within Canada is excluded” would be removed from the J-85 description because that segment was previously eliminated from the route but inadvertently left in the description.

J-89: J-89 currently extends between the intersection of the Taylor, FL, VORTAC 176° and the Valdosta, GA, VOR/DME 156° radials (charted as the HITTR, FL, Fix) and the Winnipeg, MB, Canada, VORTAC. This action would remove the segments between the intersection of the Taylor VORTAC 176° and the Valdosta VOR/DME radials (HITTR Fix) and the charted ICBOD, GA, Fix (defined by the intersection of the Atlanta, GA, VORTAC 161°(T)/161°(M) and the Alma, GA, VORTAC 252°(T)/252°(M) radials). The amended route would extend between the intersection of the Atlanta VORTAC 161°(T)/161°(M), and the Alma VORTAC 252°(T)/252°(M) radials (ICBOD Fix) and Winnipeg, MB, Canada.

J-91: J-91 currently extends between the intersection of the Orlando, FL, VORTAC 274° and the Cross City, FL, VORTAC 133° radials (the INPIN Fix), and the Henderson, WV, VORTAC. This action would remove the segments between the intersection of the Orlando VORTAC 274° and the Cross City VORTAC 133° radials, and the intersection of the Cross City 338°(T)/340°(M) and the Atlanta, GA, VORTAC 169°(T)/174°(M) radials (currently charted as the JOHNN, GA, Fix). The amended route would extend between the intersection of the Cross City VORTAC 338°(T)/340°(M) and the Atlanta VORTAC 169°(T)/174°(M) radials (the JOHNN Fix), and the Henderson VORTAC.

J-103: J-103 currently extends between the Ormond Beach, FL, VORTAC and the Savannah, GA, VORTAC. The FAA proposes to remove the entire route. RNAV route Q-93 would provide alternative routing in this area.

J-113: J-113 extends between the Virginia Key, FL, VOR/DME and the Craig, FL, VORTAC. The FAA proposes to remove the entire route. RNAV routes Q-77 could be used as an alternative in this area.

J-119: J-119 extends between the St. Petersburg, FL, VORTAC and the Taylor, FL, VORTAC. The FAA proposes to remove the entire route. A combination of RNAV routes Q-79, Q-65, and Q-99 are available as alternatives in this area.

J-121: J-121 currently extends between the Craig, FL, VORTAC, and the Kennebunk, ME, VOR/DME. This action would remove the segments between the Craig VORTAC and the Charleston, SC, VORTAC. The amended route would extend between Charleston, SC and Kennebunk, ME.

J-151: J-151 extends between the Cross City, FL, VORTAC and the Whitehall, MT, VOR/DME. This action would remove the segments between the Craig, FL, VORTAC and the Vulcan, AL, VORTAC. The amended route would extend between Vulcan, AL and Whitehall, MT.

J-165: J-165 currently extends between the Charleston, SC, VORTAC and the Richmond, VA, VOR/DME. This action would remove the segment between the Charleston VORTAC and the intersection of the Charleston VORTAC 025°(T)/030(M) and the Florence, SC, VORTAC 085°(T)/088°(M) radials (the DWYTE, SC, Fix). The amended route would extend between the intersection of the Charleston VORTAC 025°(T)/030(M) and the Florence VORTAC 085°(T)/088°(M) radials (DWYTE Fix) and the Richmond VOR/DME.

J-174: J-174 currently extends between the Craig, FL, VORTAC and the intersection of the Marconi, MA, VOR/DME 090° and the Nantucket, MA, VOR/DME 066° radials (the HERIN Fix). This action would remove the segments between the Craig VORTAC and the Charleston, SC, VORTAC. The amended route would extend between the Charleston VORTAC and the intersection of the Marconi VOR/DME 090° and the Nantucket VOR/DME 066° radials.

J-207: J-207 currently extends between the Savannah, GA, VORTAC and the Franklin, VA, VORTAC. This action would remove the segments between the Savannah, GA, VORTAC and the Florence, SC, VORTAC. The amended route would extend between the Florence VORTAC and the Franklin VORTAC.

J-208: J-208 currently extends between the Athens, GA, VOR/DME and the Hopewell, VA, VORTAC. The FAA proposes to remove the entire route.

J-209: J-209 currently extends between the Greenwood, SC, VORTAC and the intersection of the Coyle, NJ, VORTAC 036° and the Robbinsville, NJ, VORTAC 136° radials (the WHITE Fix). The action would remove the segment between the Greenwood VORTAC and the Raleigh-Durham, NC, VORTAC. The amended route would extend between the Raleigh-Durham VORTAC and the intersection of the Coyle VORTAC 036° and the Robbinsville VORTAC 136° radials.

J-210: J-210 currently extends between the intersection of the Savannah, GA, VORTAC 256° and the Vance, SC, VORTAC 221° radials (the DUNKN Fix), and the Wilmington, NC, VORTAC. This action would remove the segment between the Savannah VORTAC and the Vance VORTAC. The amended route would extend between Vance, SC and Wilmington, NC.

J-614: J-614 currently extends between the Sarasota, FL, VOR/DME and the Dolphin, FL, VORTAC. The FAA proposes to remove the entire route.

J-616: J-616 currently extends between the Sarasota, FL, VOR/DME, and the Dolphin, FL, VORTAC. The FAA proposes to remove the entire route.

In addition to the above jet route changes, the FAA proposes to remove one high altitude RNAV route as follows:

Q-112: Q-112 currently extends between the DEFUN, FL, fix and the INPIN, FL, fix. The FAA proposes to remove the entire route. A number of other Q-routes are available as alternatives.

Jet routes are published in paragraph 2004; and United States Area Navigation Routes are published in paragraph 2006; of FAA Order 7400.11C dated August 13, 2018, and effective September 15, 2018, which is incorporated by reference in 14 CFR 71.1. The jet routes and RNAV route listed in this document would be subsequently amended in, or removed, respectively, from the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 2004 Jet Routes.

J-4 [Amended]

From Los Angeles, CA, via INT Los Angeles 083° and Twentynine Palms, CA, 269° radials; Twentynine Palms; Parker, CA; Buckeye, AZ; San Simon, AZ; Newman, TX; Wink, TX; Abilene, TX; Ranger, TX; Belcher, LA; Magnolia, MS; Meridian, MS; Montgomery, AL; INT Montgomery 051° and Colliers, SC, 268° radials; to Colliers.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; Montgomery, AL; to Seminole, FL.

J-37 [Amended]

From Hobby, TX, via INT of the Hobby 090° and Harvey, LA, 266° radials; Harvey; Semmes, AL; to Montgomery, AL. From Lynchburg, VA; Gordonsville, VA; Brooke, VA; INT Brooke 067° and Coyle, NJ, 226° radials; to Coyle. From Kennedy, NY; Kingston, NY; Albany, NY; to Massena, NY.

J-41 [Amended]

From Seminole, FL; Montgomery, AL; Vulcan, AL; Memphis, TN; Springfield, MO, Kansas City, MO, to Omaha, NE.

J-43 [Amended]

From INT Cross City, FL 322°(T)/324°(M) and Seminole, FL 359°(T)/357°(M) radials; Atlanta, GA; Volunteer, TN; Falmouth, KY; Rosewood, OH; to Carleton, MI.

J-45 [Amended]

From Alma, GA; Macon, GA; Atlanta, GA; Nashville, TN; St Louis, MO; Kirksville, MO; Des Moines, IA; Sioux Falls, SD; to Aberdeen, SD.

J-46 [Amended]

From Tulsa, OK, via Walnut Ridge, AR; Nashville, TN; to Volunteer, TN.

J-47 [Remove]

J-51 [Amended]

From INT Columbia 042° and Flat Rock, VA, 212° radials; Flat Rock; Nottingham, MD; Dupont, DE; to Yardley, NJ.

J-52 [Amended]

From Vancouver, BC, Canada; via Spokane, WA; Salmon, ID; Dubois, ID; Rock Springs, WY; Falcon, CO; Hugo, CO; Lamar, CO; Liberal, KS; INT Liberal 137° and Ardmore, OK, 309° radials; Ardmore; Texarkana, AR; Sidon, MS; Bigbee, MS; Vulcan, AL; Atlanta, GA; Colliers, SC; to Columbia, SC. From INT Columbia 042°(T)/044°(M) and Flat Rock, VA 212°(T)/218°(M) radials; Raleigh-Durham, NC; to Richmond, VA. The portion within Canada is excluded.

J-53 [Amended]

From INT Craig 347° and Colliers, SC, 174° radials; Colliers; Spartanburg, SC; to Pulaski, VA.

J-55 [Amended]

From Charleston, SC; Florence, SC; INT Florence 003° and Raleigh-Durham, NC, 224° radials; Raleigh-Durham; INT Raleigh-Durham 035° and Hopewell, VA, 234° radials; Hopewell; INT Hopewell 030° and Nottingham, MD, 174° radials. From Sea Isle, NJ; INT Sea Isle 050°and Hampton, NY, 223° radials; Hampton; Providence, RI; Boston, MA; Kennebunk, ME; to Presque Isle, ME.

J-73 [Amended]

From INT Seminole, FL 344°(T)/342°(M) and Cross City, FL, 322°(T)/324°(M) radials; La Grange, GA; Nashville, TN; Pocket City, IN; to Northbrook, IL.

J-75 [Amended]

From Greensboro, NC; Gordonsville, VA; INT Gordonsville 040° and Modena, PA, 231° radials; Modena; Solberg, NJ; Carmel, NY; INT Carmel 045° and Boston, MA, 252° radials; to Boston.

J-79 [Amended]

From Charleston, SC; Tar River, NC; Franklin, VA; Salisbury, MD; INT Salisbury 018°and Kennedy, NY, 218°radials; Kennedy; INT Kennedy 080°and Nantucket, MA, 254°radials; INT Nantucket 254°and Marconi, MA, 205°radials; Marconi; INT Marconi 006°and Bangor, ME, 206°radials; Bangor.

J-81 [Amended]

From INT Craig, FL, 347° and Colliers, SC, 174°, radials; Colliers.

J-85 [Amended]

From Alma, GA; Colliers, SC; Spartanburg, SC; Charleston, WV; INT Charleston 357° and Dryer, OH, 172° radials; Dryer.

J-89 [Amended]

From INT Atlanta, GA 161°(T)/161°(M) and Alma, GA, 252°(T)/252°(M) radials; Atlanta; Louisville, KY; Boiler, IN; Northbrook, IL; Badger, WI; Duluth, MN; to Winnipeg, MB, Canada. The portion within Canada is excluded.

J-91 [Amended]

From INT Cross City 338° and Atlanta, GA, 169° radials; Atlanta; Volunteer, TN; to Henderson, WV.

J-103 [Remove]

J-113 [Remove]

J-119 [Remove]

J-121 [Amended]

From Charleston, SC; Kinston, NC; Norfolk, VA; INT Norfolk 023° and Snow Hill, MD, 211° radials; Snow Hill; Sea Isle, NJ; INT Sea Isle 050° and Hampton, NY, 223° radials; Hampton; Sandy Point, RI; INT Sandy Point 031° and Kennebunk, ME, 190° radials; to Kennebunk.

J-151 [Amended]

From Vulcan, AL; Farmington, MO; St. Louis, MO; Kirksville, MO; Omaha, NE; O'Neil, NE; Rapid City, SD; Billings, MT; INT Billings 266° and Whitehall, MT, 103° radials; to Whitehall.

J-165 [Amended]

From INT Charleston, SC, 025°(T)/030°(M) and Florence, SC, 085°(T)/088°(M) radials to Richmond, VA.

J-174 [Amended]

From Charleston, SC; Wilmington, NC; Dixon NDB, NC; Norfolk, VA; INT Norfolk 023° and Snow Hill, MD, 211° radials; Snow Hill; Hampton, NY; INT Hampton 069° and Marconi, MA 228° radials; Marconi, to the INT of Marconi 090° and Nantucket, MA, 066° radials. Airspace below FL 240 is excluded between Snow Hill and lat. 38°45′00″ N, long. 74°43′59″ W. Airspace above FL 410 is excluded between Snow Hill and Hampton.

J-207 [Amended]

From Florence, SC; Raleigh-Durham, NC; to Franklin, VA.

J-208 [Remove]

J-209 [Amended]

From Raleigh-Durham, NC; Tar River, NC; Norfolk, VA; INT Norfolk 023° and Salisbury, MD, 199° radials; Salisbury; INT Salisbury 018° and Coyle, NJ, 226° radials; Coyle; to INT Coyle 036° and Robbinsville, NJ, 136° radials.

J-210 [Amended]

From Vance, SC; to Wilmington, NC.

J-614 [Remove]

J-616 [Remove]

Paragraph 2006 United States Area Navigation Routes

Q-112 [Remove]

Issued in Washington, DC, on September 4, 2019.
Scott M. Rosenbloom,
Acting Manager, Airspace Policy Group.

[FR Doc. 2019-19544 Filed 9-11-19; 8:45 am]

BILLING CODE 4910-13-P